DEPARTMENT OF TRANSPORTATION

Federal Aviation Administration

14 CFR Part 39

[Docket No. FAA-2024-0992; Project Identifier MCAI-2024-00030-T; Amendment 39-22808; AD 2024-16-02]

RIN 2120-AA64

Airworthiness Directives; Airbus SAS Airplanes

AGENCY: Federal Aviation Administration (FAA), DOT.

ACTION: Final rule.

SUMMARY: The FAA is superseding Airworthiness Directive (AD) 2018-01-07, AD 2018-19-33, AD 2019-21-01, AD 2021-26-20, AD 2022-13-09, AD 2022-14-06, AD 2023-09-05, and AD 2023-26-06, which applied to all Airbus SAS Model A300 B4-600, B4-600R, and F4-600R series airplanes, and Model A300 C4-605R Variant F airplanes (collectively called Model A300-600 series airplanes); and AD 2020-23-11, which applied to all Airbus SAS Model A300 and A300-600 series airplanes. AD 2018-01-07, AD 2018-19-33, AD 2019-21-01, AD 2021-26-20, AD 2022-13-09, AD 2022-14-06, AD 2023-09-05, and AD 2023-26-06 required revising the existing maintenance or inspection program, as applicable, to incorporate new or more restrictive airworthiness limitations. AD 2020-23-11 required repetitive inspections for discrepancies of certain areas in and around the fuselage and repair if necessary. This AD was prompted by a determination that new or more restrictive airworthiness limitations are necessary. This AD continues to require certain actions specified in the superseded ADs, and requires revising the existing maintenance or inspection program, as applicable, to incorporate new or more restrictive airworthiness limitations; as specified in a European Union Aviation Safety Agency (EASA) AD, which is incorporated by reference. This AD also removes the Model A300 series airplanes from the applicability. The FAA is issuing this AD to address the unsafe condition on these products.

DATES: This AD is effective October 21, 2024.

The Director of the Federal Register approved the incorporation by reference of a certain publication listed in this AD as of October 21, 2024.

The Director of the Federal Register approved the incorporation by reference of a certain other publication listed in this AD as of March 7, 2024 (89 FR 6411, February 1, 2024).

The Director of the Federal Register approved the incorporation by reference of a certain other publication listed in this AD as of July 11, 2023 (88 FR 36926, June 6, 2023).

The Director of the Federal Register approved the incorporation by reference of a certain other publication listed in this AD as of August 19, 2022 (87 FR 42318, July 15, 2022).

The Director of the Federal Register approved the incorporation by reference of a certain other publication listed in this AD as of August 9, 2022 (87 FR 39743, July 5, 2022).

The Director of the Federal Register approved the incorporation by reference of a certain other publication listed in this AD as of May 3, 2022 (87 FR 17939, March 29, 2022).

The Director of the Federal Register approved the incorporation by reference of a certain other publication listed in this AD as of January 4, 2021 (85 FR 75838, November 27, 2020).

The Director of the Federal Register approved the incorporation by reference of a certain other publication listed in this AD as of November 29, 2019 (84 FR 56935, October 24, 2019).

ADDRESSES:

AD Docket: You may examine the AD docket at regulations.gov under Docket No. FAA-2024-0992; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this AD, contact EASA, Konrad-Adenauer-Ufer 3, 50668 Cologne, Germany; telephone +49 221 8999 000; email ADs@easa.europa.eu; website easa.europa.eu. You may find this material on the EASA website at ad.easa.europa.eu.

• For Airbus SAS material identified in this AD, contact Airbus SAS, Airworthiness Office—EAW, Rond-Point Emile Dewoitine No: 2, 31700 Blagnac Cedex, France; telephone +33 5 61 93 36 96; fax +33 5 61 93 44 51; email account.airworth-eas@airbus.com; website airbus.com.

• You may view this material at the FAA, Airworthiness Products Section, Operational Safety Branch, 2200 South 216th St., Des Moines, WA. For information on the availability of this material at the FAA, call 206-231-3195. It is also available at regulations.gov under Docket No. FAA-2024-0992.

FOR FURTHER INFORMATION CONTACT: Dan Rodina, Aviation Safety Engineer, FAA, 1600 Stewart Avenue, Suite 410, Westbury, NY 11590; phone: 206-231-3225; email: dan.rodina@faa.gov.

SUPPLEMENTARY INFORMATION:

Background

The FAA issued a notice of proposed rulemaking (NPRM) to amend 14 CFR part 39 to supersede AD 2019-21-01, Amendment 39-19767 (84 FR 56935, October 24, 2019) (AD 2019-21-01). AD 2019-21-01 applied to all Airbus SAS Model A300-600 series airplanes. AD 2019-21-01 required revising the existing maintenance or inspection program, as applicable, to incorporate new or more restrictive airworthiness limitations. The FAA issued 2019-21-01 to address fatigue cracking, damage, and corrosion in principal structural elements. The unsafe condition, if not addressed, could result in reduced structural integrity of the airplane.

The NPRM published in the Federal Register on April 5, 2024 (89 FR 23951). The NPRM was prompted by AD 2024-0009, dated January 9, 2024 (EASA AD 2024-0009) (also referred to as the MCAI), issued by EASA, which is the Technical Agent for the Member States of the European Union. The MCAI states that new or more restrictive airworthiness limitations have been developed.

In the NPRM, the FAA proposed to continue to require certain actions specified in AD 2019-21-01, and to require revising the existing maintenance or inspection program, as applicable, to incorporate new or more restrictive airworthiness limitations; as specified in EASA AD 2024-0009. The FAA is issuing this AD to address the unsafe condition on these products.

You may examine the MCAI in the AD docket at regulations.gov under Docket No. FAA-2024-0992.

Discussion of Final Airworthiness Directive

Comments

The FAA received comments from the Air Line Pilots Association, International (ALPA), who supported the NPRM without change.

The FAA received an additional comment from FedEx. The following presents the comment received on the NPRM and the FAA's response to the comment.

Request To Terminate Additional ADs

FedEx requested that the FAA revise the proposed AD to allow accomplishment of the requirements to also terminate the requirements of AD 2020-23-11, Amendment 39-21327 (85 FR 75838, November 27, 2020) (AD 2020-23-11); AD 2021-26-20, Amendment 39-21879 (87 FR 17939, March 29, 2022) (AD 2021-26-20); AD 2022-13-09, Amendment 39-22095 (87 FR 39743, July 5, 2022) (AD 2022-13-09); AD 2022-14-06, Amendment 39-22111 (87 FR 42318, July 15, 2022) (AD 2022-14-06); AD 2023-09-05, Amendment 39-22428 (88 FR 36926, June 6, 2023) (AD 2023-09-05); and AD 2023-26-06, Amendment 39-22649 (89 FR 6411, February 1, 2024) (AD 2023-26-06).

Fedex stated that AD 2020-23-11, AD 2021-26-20, AD 2022-13-09, AD 2022-14-06, AD 2023-09-05, and AD 2023-26-06 require the incorporation of airworthiness limitations section (ALS) Part 2 Variations, which have all been incorporated into Airbus A300-600 ALS, Part 2, Revision 04, dated July 20, 2023, according to the “Revision Status” section of Revision 04. FedEx also stated that EASA AD 2024-0009 supersedes all the EASA ADs related to these additional FAA ADs.

The FAA agrees that the additional ADs require the incorporation of ALS Part 2 Variations, which have all been incorporated into ALS Part 2 Revision 04, dated July 20, 2023, and therefore, those ADs are terminated once Revision 04 has been incorporated into the existing maintenance or inspection program, as applicable. Therefore, the FAA is superseding AD 2019-21-01, AD 2020-23-11, AD 2021-26-20, AD 2022-13-09, AD 2022-14-06, AD 2023-09-05, and AD 2023-26-06, which correspond to the EASA ADs superseded by EASA AD 2024-0009. The FAA has determined superseding all affected ADs is a less burdensome approach than adding terminating action paragraphs to this AD for each of the additional ADs.

Additional Changes Made to This AD

Although the preamble of the NPRM stated that AD 2019-21-01 specified that accomplishing the revision required by that AD terminates all requirements of AD 2018-01-07, Amendment 39-19148 (83 FR 2042, January 16, 2018) (AD 2018-01-07) and AD 2018-19-33, Amendment 39-19434 (83 FR 48932, September 28, 2018) (AD 2018-19-33), and that the proposed AD would therefore continue to allow that terminating action, the proposed AD did not include terminating action for those ADs. This AD has been revised to supersede AD 2018-01-07 and AD 2018-19-33 and does not restate the requirements of those ADs; the actions required by those ADs have already been terminated by the requirements of AD 2019-21-01.

AD 2020-23-11 corresponds to EASA AD 2020-0110R1, dated May 27, 2020 (EASA AD 2020-0110R1) (for Model A300 series airplanes) and EASA AD 2020-0111R2, dated June 16, 2020 (for Model A300-600 series airplanes). EASA AD 2020-0110R1 has since been superseded by EASA AD 2024-0008, dated January 9, 2024 (EASA AD 2024-0008). There currently are no Model A300 series airplanes on the U.S. register. Therefore, the FAA has added EASA AD 2024-0008 to the required airworthiness actions list (RAAL) for the Model A300 series airplanes. Therefore, the FAA has not included the Model A300 series airplanes in this AD.

Paragraph (l) of the proposed AD specified that accomplishing the actions required by this AD terminates all requirements of AD 2019-21-01. However, AD 2019-21-01 is superseded by this AD and the actions are retained in paragraph (g) of this AD, which is terminated by the actions required by paragraph (dd) of this AD. Therefore, the FAA has not restated paragraph (l) of the proposed AD in this AD.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the NPRM. None of the changes will increase the economic burden on any operator.

Material Incorporated by Reference Under 1 CFR Part 51

The FAA reviewed EASA AD 2024-0009. This service information specifies new or more restrictive airworthiness limitations for airplane structures and safe life limits.

This AD also requires EASA AD 2023-0091, dated May 5, 2023, which the Director of the Federal Register approved for incorporation by reference as of March 7, 2024 (89 FR 6411, February 1, 2024).

This AD also requires EASA AD 2022-0192, dated September 23, 2022, which the Director of the Federal Register approved for incorporation by reference as of July 11, 2023 (88 FR 36926, June 6, 2023).

This AD also requires EASA AD 2021-0258, dated November 17, 2021, which the Director of the Federal Register approved for incorporation by reference as of August 19, 2022 (87 FR 42318, July 15, 2022).

This AD also requires EASA AD 2021-0204, dated September 14, 2021, which the Director of the Federal Register approved for incorporation by reference as of August 9, 2022 (87 FR 39743, July 5, 2022).

This AD also requires EASA AD 2021-0093, dated March 30, 2021, which the Director of the Federal Register approved for incorporation by reference as of May 3, 2022 (87 FR 17939, March 29, 2022).

This AD also requires EASA AD 2020-0111R2, dated June 16, 2020, which the Director of the Federal Register approved for incorporation by reference as of January 4, 2021 (85 FR 75838, November 27, 2020).

This AD also requires Airbus A300-600 Airworthiness Limitations Section (ALS), Part 2, “Damage Tolerant Airworthiness Limitation Items (DT-ALI),” Revision 03, dated December 14, 2018, which the Director of the Federal Register approved for incorporation by reference as of November 29, 2019 (84 FR 56935, October 24, 2019).

This material is reasonably available because the interested parties have access to it through their normal course of business or by the means identified in ADDRESSES.

Costs of Compliance

The FAA estimates that this AD affects 120 airplanes of U.S. registry. The FAA estimates the following costs to comply with this AD:

The FAA estimates the following costs to comply with retained actions from AD 2020-23-11:

Estimated Costs From AD 2020-23-11*
Action | Labor cost | Parts cost | Cost per product | Cost on U.S. operators
Retained actions from AD 2020-23-11 | 90 work-hours × $85 per hour = $7,650 | $0 | $7,650 | $918,000
* The FAA has received no definitive data on which to base the cost estimates for the on-condition actions specified in AD 2020-23-11.

The FAA estimates the total cost per operator for the retained actions from AD 2019-21-01, AD 2021-26-20, AD 2022-13-09, AD 2022-14-06, AD 2023-09-05, and AD 2023-26-06 to be $7,650 (90 work-hours × $85 per work-hour) per AD.

The FAA has determined that revising the existing maintenance or inspection program takes an average of 90 work-hours per operator, although the agency recognizes that this number may vary from operator to operator. Since operators incorporate maintenance or inspection program changes for their affected fleet(s), the FAA has determined that a per-operator estimate is more accurate than a per-airplane estimate.

The FAA estimates the total cost per operator for the new actions to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directives (AD) 2018-01-07, Amendment 39-19148 (83 FR 2042, January 16, 2018); AD 2018-19-33, Amendment 39-19434 (83 FR 48932, September 28, 2018); AD 2019-21-01, Amendment 39-19767 (84 FR 56935, October 24, 2019); AD 2020-23-11, Amendment 39-21327 (85 FR 75838, November 27, 2020); AD 2021-26-20, Amendment 39-21879 (87 FR 17939, March 29, 2022); AD 2022-13-09, Amendment 39-22095 (87 FR 39743, July 5, 2022); AD 2022-14-06, Amendment 39-22111 (87 FR 42318, July 15, 2022); AD 2023-09-05, Amendment 39-22428 (88 FR 36926, June 6, 2023); and AD 2023-26-06, Amendment 39-22649 (89 FR 6411, February 1, 2024); and

b. Adding the following new AD:

2024-16-02 Airbus SAS: Amendment 39-22808; Docket No. FAA-2024-0992; Project Identifier MCAI-2024-00030-T.

(a) Effective Date

This airworthiness directive (AD) is effective October 21, 2024.

(b) Affected ADs

This AD replaces the ADs specified in paragraphs (b)(1) through (9) of this AD.

(1) AD 2018-01-07, Amendment 39-19148 (83 FR 2042, January 16, 2018).

(2) AD 2018-19-33, Amendment 39-19434 (83 FR 48932, September 28, 2018).

(3) AD 2019-21-01, Amendment 39-19767 (84 FR 56935, October 24, 2019) (AD 2019-21-01).

(4) AD 2020-23-11, Amendment 39-21327 (85 FR 75838, November 27, 2020) (AD 2020-23-11).

(5) AD 2021-26-20, Amendment 39-21879 (87 FR 17939, March 29, 2022) (AD 2021-26-20).

(6) AD 2022-13-09, Amendment 39-22095 (87 FR 39743, July 5, 2022) (AD 2022-13-09).

(7) AD 2022-14-06, Amendment 39-22111 (87 FR 42318, July 15, 2022) (AD 2022-14-06).

(8) AD 2023-09-05, Amendment 39-22428 (88 FR 36926, June 6, 2023) (AD 2023-09-05).

(9) AD 2023-26-06, Amendment 39-22649 (89 FR 6411, February 1, 2024) (AD 2023-26-06).

(c) Applicability

This AD applies to all Airbus SAS airplanes identified in paragraphs (c)(1) through (4) of this AD, certificated in any category.

(1) Model A300 B4-601, B4-603, B4-620, and B4-622 airplanes.

(2) Model A300 B4-605R and B4-622R airplanes.

(3) Model A300 C4-605R Variant F airplanes.

(4) Model A300 F4-605R and F4-622R airplanes.

(d) Subject

Air Transport Association (ATA) of America Code 05, Time Limits/Maintenance Checks.

(e) Unsafe Condition

This AD was prompted by a determination that new or more restrictive airworthiness limitations are necessary. The FAA is issuing this AD to address fatigue cracking, damage, and corrosion in principal structural elements. The unsafe condition, if not addressed, could result in reduced structural integrity of the airplane.

(f) Compliance

Comply with this AD within the compliance times specified, unless already done.

(g) Retained Revision of the Existing Maintenance or Inspection Program From AD 2019-21-01, With No Changes

This paragraph restates the requirements of paragraph (g) of AD 2019-21-01, with no changes. Within 90 days after November 29, 2019 (the effective date of AD 2019-21-01), revise the existing maintenance or inspection program, as applicable, to incorporate the information specified in Airbus A300-600 Airworthiness Limitations Section (ALS), Part 2, “Damage Tolerant Airworthiness Limitation Items (DT-ALI),” Revision 03, dated December 14, 2018. The initial compliance time for doing the tasks is at the time specified in Airbus A300-600 Airworthiness Limitations Section (ALS), Part 2, “Damage Tolerant Airworthiness Limitation Items (DT-ALI),” Revision 03, dated December 14, 2018, or within 90 days after November 29, 2019, whichever occurs later. Accomplishing the revision of the existing maintenance or inspection program required by paragraph (dd) of this AD terminates the requirements of this paragraph.

(h) Retained Restrictions on Alternative Actions or Intervals From AD 2019-21-01, With a New Exception

This paragraph restates the requirements of paragraph (h) of AD 2019-21-01, with a new exception. Except as required by paragraphs (k), (o), (s), (v), (z), and (dd) of this AD: After the existing maintenance or inspection program has been revised as required by paragraph (g) of this AD, no alternative actions (e.g., inspections) or intervals may be used unless the actions and intervals are approved as an alternative method of compliance (AMOC) in accordance with the procedures specified in paragraph (gg)(1) of this AD.

(i) Retained Requirements From AD 2020-23-11, With a New Exception

This paragraph restates the requirements of paragraph (g)(2) of AD 2020-23-11, with a new exception. Except as specified in paragraph (j) of this AD, and except as required by paragraph (k) of this AD, comply with all required actions and compliance times specified in, and in accordance with, European Union Aviation Safety Agency (EASA) AD 2020-0111R2, dated June 16, 2020 (EASA AD 2020-0111R2). Accomplishing the revision of the existing maintenance or inspection program required by paragraph (dd) of this AD terminates the requirements of this paragraph.

(j) Retained Exceptions to EASA AD 2020-0111R2, With Revised References

This paragraph restates the exceptions specified in paragraphs (h)(2) and (3) of AD 2020-23-11, with revised references.

(1) Where paragraph (4) of EASA AD 2020-0111R2 refers to June 3, 2020 (“the effective date of this [EASA] AD at original issue”), this AD requires using January 4, 2021 (the effective date of AD 2020-23-11).

(2) The “Remarks” section of EASA AD 2020-0111R2 does not apply to this AD.

(k) Retained Requirements From AD 2021-26-20, With No Changes

This paragraph restates the requirements of paragraph (g) of AD 2021-26-20, with no changes. Except as specified in paragraph (l) of this AD: Comply with all required actions and compliance times specified in, and in accordance with, EASA AD 2021-0093, dated March 30, 2021 (EASA AD 2021-0093). Accomplishing the revision of the existing maintenance or inspection program required by paragraph (dd) of this AD terminates the requirements of this paragraph.

(l) Retained Exceptions to EASA AD 2021-0093, With No Changes

This paragraph restates the exceptions specified in paragraph (h) of AD 2021-26-20, with no changes.

(1) Where EASA AD 2021-0093 refers to its effective date, this AD requires using May 3, 2022 (the effective date of AD 2021-26-20).

(2) The requirements specified in paragraphs (1) and (2) of EASA AD 2021-0093 do not apply to this AD.

(3) Paragraph (3) of EASA AD 2021-0093 specifies revising “the approved AMP [aircraft maintenance program]” within 12 months after its effective date, but this AD requires revising the existing maintenance or inspection program, as applicable within 90 days after May 3, 2022 (the effective date of AD 2021-26-20).

(4) The initial compliance time for doing the tasks specified in paragraph (3) of EASA 2021-0093 is at the applicable “thresholds” as incorporated by the requirements of paragraph (3) of EASA AD 2021-0093, or within 90 days after May 3, 2022 (the effective date of AD 2021-26-20), whichever occurs later.

(5) The provisions specified in paragraph (4) of EASA AD 2021-0093 do not apply to this AD.

(6) The “Remarks” section of EASA AD 2021-0093 does not apply to this AD.

(m) Retained Provisions From AD 2021-26-20, With a New Exception

This paragraph restates the provisions specified in paragraph (i) of AD 2021-26-20, with a new exception. Except as required by paragraph (dd) of this AD: After the existing maintenance or inspection program has been revised as required by paragraph (k) of this AD, no alternative actions (e.g., inspections) or intervals are allowed unless they are approved as specified in the provisions of the “Ref. Publications” section of EASA AD 2021-0093.

(n) Retained Terminating Action From AD 2021-26-20, With No Changes

This paragraph restates the terminating action specified in paragraph (j) of AD 2021-26-20, with no changes.

(1) Accomplishing the actions required by paragraph (k) of this AD terminates the corresponding requirements of paragraph (g) of this AD, for the tasks identified in the service information referred to in EASA AD 2021-0093 only.

(2) Accomplishing the actions required by paragraph (k) of this AD terminates the corresponding requirements of paragraph (i) of this AD, for the tasks identified in the service information referred to in EASA AD 2021-0093 only.

(o) Retained Requirements From AD 2022-13-09, With No Changes

This paragraph restates the requirements of paragraph (g) of AD 2022-13-09, with no changes. Except as specified in paragraph (p) of this AD: Comply with all required actions and compliance times specified in, and in accordance with, EASA AD 2021-0204, dated September 14, 2021 (EASA AD 2021-0204). Accomplishing the revision of the existing maintenance or inspection program required by paragraph (dd) of this AD terminates the requirements of this paragraph.

(p) Retained Exceptions to EASA AD 2021-0204, With No Changes

This paragraph restates the exceptions specified in paragraph (h) of AD 2022-23-09, with no changes.

(1) Where EASA AD 2021-0204 refers to its effective date, this AD requires using August 9, 2022 (the effective date of AD 2022-13-09).

(2) The requirements specified in paragraphs (1) and (2) of EASA AD 2021-0204 do not apply to this AD.

(3) Paragraph (3) of EASA AD 2021-0204 specifies revising “the approved AMP” within 12 months after its effective date, but this AD requires revising the existing maintenance or inspection program, as applicable, within 90 days after August 9, 2022 (the effective date of AD 2022-13-09).

(4) The initial compliance time for doing the tasks specified in paragraph (3) of EASA 2021-0204 is at the applicable “associated thresholds” as incorporated by the requirements of paragraph (3) of EASA AD 2021-0204, or within 90 days after August 9, 2022 (the effective date of AD 2022-13-09), whichever occurs later.

(5) The provisions specified in paragraphs (4) of EASA AD 2021-0204 do not apply to this AD.

(6) The “Remarks” section of EASA AD 2021-0204 does not apply to this AD.

(q) Retained Provisions From AD 2022-13-09, With a New Exception

This paragraph restates the provisions specified in paragraph (i) of AD 2022-13-09, with a new exception. Except as required by paragraph (dd) of this AD: After the existing maintenance or inspection program has been revised as required by paragraph (o) of this AD, no alternative actions (e.g., inspections) or intervals are allowed unless they are approved as specified in the provisions of the “Ref. Publications” section of EASA AD 2021-0204.

(r) Retained Terminating Action From AD 2022-13-09 With No Changes

This paragraph restates the terminating action specified in paragraph (j) of AD 2021-26-20, with no changes. Accomplishing the actions required by paragraph (o) of this AD terminates the corresponding requirements of paragraph (g) of this AD, for the tasks identified in the service information referred to in EASA AD 2021-0204 only.

(s) Retained Requirements From AD 2022-14-06, With No Changes

This paragraph restates the requirements of paragraph (g) of AD 2022-14-06, with no changes. Except as specified in paragraph (t) of this AD: Comply with all required actions and compliance times specified in, and in accordance with, EASA AD 2021-0258, dated November 17, 2021 (EASA AD 2021-0258). Accomplishing the revision of the existing maintenance or inspection program required by paragraph (dd) of this AD terminates the requirements of this paragraph.

(t) Retained Exceptions to EASA AD 2021-0258, With No Changes

This paragraph restates the exceptions specified in paragraph (h) of AD 2022-14-06, with no changes.

(1) Where EASA AD 2021-0258 refers to its effective date, this AD requires using August 19, 2022 (the effective date of AD 2022-14-06).

(2) Where paragraph (1) of EASA AD 2021-0258 specifies “This AD invalidates the LOV [limit of validity] as specified in Airbus A300-600 ALS Part 2 Revision 03 [EASA AD 2019-0090],” this AD replaces the LOVs specified in paragraph 3.1 of Airbus A300-600 Airworthiness Limitations Section (ALS), Part 2, “Damage Tolerant Airworthiness Limitation Items (DT-ALI),” Revision 03, dated December 14, 2018, as required by paragraph (g) of this AD.

(3) Paragraph (2) of EASA AD 2021-0258 specifies revising “the approved AMP” within 12 months after its effective date, but this AD requires revising the existing maintenance or inspection program, as applicable, within 90 days after August 19, 2022 (the effective date of AD 2022-14-06).

(4) The “Remarks” section of EASA AD 2021-0258 does not apply to this AD.

(u) Retained Provisions From AD 2022-14-06, With a New Exception

This paragraph restates the provisions specified in paragraph (i) of AD 2022-14-06, with a new exception. Except as required by paragraph (dd) of this AD: After the existing maintenance or inspection program has been revised as required by paragraph (s) of this AD, no alternative actions (e.g., inspections) or intervals are allowed unless they are approved as specified in the provisions of the “Ref. Publications” section of EASA AD 2021-0258.

(v) Retained Requirements From AD 2023-09-05, With No Changes

This paragraph restates the requirements of paragraph (g) of AD 2023-09-05, with no changes. Except as specified in paragraph (w) of this AD: Comply with all required actions and compliance times specified in, and in accordance with, EASA AD 2022-0192, dated September 23, 2022 (EASA AD 2022-0192). Accomplishing the revision of the existing maintenance or inspection program required by paragraph (dd) of this AD terminates the requirements of this paragraph.

(w) Retained Exceptions to EASA AD 2022-0192, With No Changes

This paragraph restates the exceptions specified in paragraph (h) of AD 2023-09-05, with no changes.

(1) This AD does not adopt the requirements specified in paragraphs (1) and (2) of EASA AD 2022-0192.

(2) Paragraph (3) of EASA AD 2022-0192 specifies revising “the AMP” within 12 months after its effective date, but this AD requires revising the existing maintenance or inspection program, as applicable, within 90 days after July 11, 2023 (the effective date of AD 2023-09-05).

(3) The initial compliance time for doing the tasks specified in paragraph (3) of EASA 2022-0192 is at the applicable “associated thresholds” as incorporated by the requirements of paragraph (3) of EASA AD 2022-0192, or within 90 days after July 11, 2023 (the effective date of AD 2023-09-05), whichever occurs later.

(4) This AD does not adopt the provisions specified in paragraph (4) of EASA AD 2022-0192.

(5) This AD does not adopt the “Remarks” section of EASA AD 2022-0192.

(x) Retained Provisions From AD 2023-09-05, With a New Exception

This paragraph restates the provisions specified in paragraph (i) of AD 2023-09-05, with a new exception. Except as required by paragraph (dd) of this AD: After the existing maintenance or inspection program has been revised as required by paragraph (v) of this AD, no alternative actions (e.g., inspections) or intervals are allowed unless they are approved as specified in the provisions of the “Ref. Publications” section of EASA AD 2022-0192.

(y) Retained Terminating Action From AD 2023-09-05, With No Changes

This paragraph restates the terminating action specified in paragraph (j) of AD 2023-09-05, with no changes. Accomplishing the actions required by paragraph (v) of this AD terminates the corresponding requirements of paragraph (g) of this AD for the tasks identified in the service information referred to in EASA AD 2022-0192 only.

(z) Retained Requirements From AD 2023-26-06, With No Changes

This paragraph restates the requirements of paragraph (g) of AD 2023-26-06, with no changes. Except as specified in paragraph (aa) of this AD: Comply with all required actions and compliance times specified in, and in accordance with, EASA AD 2023-0091, dated May 5, 2023 (EASA AD 2023-0091). Accomplishing the revision of the existing maintenance or inspection program required by paragraph (dd) of this AD terminates the requirements of this paragraph.

(aa) Retained Exceptions to EASA AD 2023-0091, With No Changes

This paragraph restates the exceptions specified in paragraph (h) of AD 2023-26-06, with no changes.

(1) This AD does not adopt the requirements specified in paragraphs (1) and (2) of EASA AD 2023-0091.

(2) Where paragraph (3) of EASA AD 2023-0091 specifies “Within 12 months after the effective date of this AD, revise the AMP,” this AD requires replacing those words with “Within 90 days after March 7, 2024 (the effective date of AD 2023-26-06), revise the existing maintenance or inspection program, as applicable.”

(3) The initial compliance time for doing the tasks specified in paragraph (3) of EASA 2023-0091 is at the applicable “associated thresholds” as incorporated by the requirements of paragraph (3) of EASA AD 2023-0091, or within 90 days after March 7, 2024 (the effective date of AD 2023-26-06), whichever occurs later.

(4) This AD does not adopt the provisions specified in paragraph (4) of EASA AD 2023-0091.

(5) This AD does not adopt the “Remarks” section of EASA AD 2023-0091.

(bb) Retained Provisions From AD 2023-26-06, With a New Exception

This paragraph restates the provisions specified in paragraph (i) of AD 2023-26-06, with a new exception. Except as required by paragraph (dd) of this AD: After the existing maintenance or inspection program has been revised as required by paragraph (z) of this AD, no alternative actions (e.g., inspections) or intervals are allowed unless they are approved as specified in the provisions of the “Ref. Publications” section of EASA AD 2023-0091.

(cc) Retained Terminating Action From AD 2023-26-06, With a Revised Reference

This paragraph restates the terminating action specified in paragraph (j) of AD 2023-26-06, with a revised reference. Accomplishing the actions required by paragraph (z) of this AD terminates the corresponding requirements of paragraph (g) of this AD for the tasks identified in the service information referenced in EASA AD 2023-0091 only.

(dd) New Revision of the Existing Maintenance or Inspection Program

Except as specified in paragraph (ee) of this AD: Comply with all required actions and compliance times specified in, and in accordance with, EASA AD 2024-0009, dated January 9, 2024 (EASA AD 2024-0009). Accomplishing the revision of the existing maintenance or inspection program required by this paragraph terminates the requirements of paragraphs (g), (i), (k), (o), (s), (v), and (z) of this AD.

(ee) Exceptions to EASA AD 2024-0009

(1) This AD does not adopt the requirements specified in paragraphs (1) and (2) of EASA AD 2024-0009.

(2) Paragraph (4) of EASA AD 2024-0009 specifies revising “the approved AMP,” within 12 months after its effective date, but this AD requires revising the existing maintenance or inspection program, as applicable, within 90 days after the effective date of this AD.

(3) The initial compliance time for doing the tasks specified in paragraph (4) of EASA AD 2024-0009 is at the applicable “limitations” and “associated thresholds” as incorporated by the requirements of paragraph (4) of EASA AD 2024-0009, or within 90 days after the effective date of this AD, whichever occurs later.

(4) This AD does not adopt the provisions specified in paragraphs (5) and (6) of EASA AD 2024-0009.

(5) This AD does not adopt the “Remarks” section of EASA AD 2024-0009.

(6) Where EASA AD 2024-0009 refers to its effective date, this AD requires using the effective date of this AD.

(ff) New Provisions for Alternative Actions and Intervals

After the existing maintenance or inspection program has been revised as required by paragraph (dd) of this AD, no alternative actions (e.g., inspections) and intervals are allowed unless they are approved as specified in the provisions of the “Ref. Publications” section of EASA AD 2024-0009.

(gg) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (hh) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(3) Required for Compliance (RC): Except as required by paragraph (gg)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(hh) Additional Information

For more information about this AD, contact Dan Rodina, Aviation Safety Engineer, FAA, 1600 Stewart Avenue, Suite 410, Westbury, NY 11590; phone: 206-231-3225; email: dan.rodina@faa.gov.

(ii) Material Incorporated by Reference

(1) The Director of the Federal Register approved the incorporation by reference (IBR) of the material listed in this paragraph under 5 U.S.C. 552(a) and 1 CFR part 51.

(2) You must use this material as applicable to do the actions required by this AD, unless this AD specifies otherwise.

(3) The following material was approved for IBR on [DATE 35 DAYS AFTER DATE OF PUBLICATION OF THE FINAL RULE].

(i) European Union Aviation Safety Agency (EASA) AD 2024-0009, dated January 9, 2024.

(ii) [Reserved]

(4) The following material was approved for IBR on March 7, 2024 (89 FR 6411, February 1, 2024).

(i) EASA AD 2023-0091, dated May 5, 2023.

(ii) [Reserved]

(5) The following material was approved for IBR on July 11, 2023 (88 FR 36926, June 6, 2023).

(i) EASA AD 2022-0192, dated September 23, 2022.

(ii) [Reserved]

(6) The following material was approved for IBR on August 19, 2022 (87 FR 42318, July 15, 2022).

(i) EASA AD 2021-0258, dated November 17, 2021.

(ii) [Reserved]

(7) The following material was approved for IBR on August 9, 2022 (87 FR 39743, July 5, 2022).

(i) EASA AD 2021-0204, dated September 14, 2021.

(ii) [Reserved]

(8) The following material was approved for IBR on May 3, 2022 (87 FR 17939, March 29, 2022).

(i) EASA AD 2021-0093, dated March 30, 2021.

(ii) [Reserved]

(9) The following material was approved for IBR on January 4, 2021 (85 FR 75838, November 27, 2020).

(i) EASA AD 2020-0111R2, dated June 16, 2020.

(ii) [Reserved]

(10) The following material was approved for IBR on November 29, 2019 (84 FR 56935, October 24, 2019).

(i) Airbus A300-600 Airworthiness Limitations Section (ALS), Part 2, “Damage Tolerant Airworthiness Limitation Items (DT-ALI),” Revision 03, dated December 14, 2018.

(ii) [Reserved]

(11) For EASA ADs 2020-0111R2, 2021-0093, 2021-0204, 2021-0258, 2022-0192, 2023-0091, and 2024-0009, contact EASA, Konrad-Adenauer-Ufer 3, 50668 Cologne, Germany; telephone +49 221 8999 000; email ADs@easa.europa.eu; website easa.europa.eu. You may find these EASA ADs on the EASA website at ad.easa.europa.eu.

(12) For Airbus SAS material identified in this AD, contact Airbus SAS, Airworthiness Office—EAW, Rond-Point Emile Dewoitine No: 2, 31700 Blagnac Cedex, France; telephone +33 5 61 93 36 96; fax +33 5 61 93 44 51; email account.airworth-eas@airbus.com; website airbus.com.

(13) You may view this material that is incorporated by reference at the FAA, Airworthiness Products Section, Operational Safety Branch, 2200 South 216th St., Des Moines, WA. For information on the availability of this material at the FAA, call 206-231-3195.

(14) You may view this material at the National Archives and Records Administration (NARA). For information on the availability of this material at NARA, visit www.archives.gov/federal-register/cfr/ibr-locations, or email fr.inspection@nara.gov.

Issued on July 30, 2024.
Peter A. White,
Deputy Director, Integrated Certificate Management Division, Aircraft Certification Service.

[FR Doc. 2024-20835 Filed 9-13-24; 8:45 am]

BILLING CODE 4910-13-P